DEPARTMENT OF THE INTERIOR

National Park Service

[NPS-WASO-NAGPRA-NPS0035719; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Cayuga County, NY.

DATES: Repatriation of the human remains and associated funerary objects in this notice may occur on or after May 29, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, 23 individuals were removed from the Backus site (Aub 002) in Cayuga County, NY. The human remains of twenty-two individuals and one associated funerary object were excavated by H.C. Follette during an RMSC expedition in 1929, and the human remains of one individual were gifted to the RMSC by an unknown individual and are part of the Greene Collection. No known individuals were identified. The one associated funerary object is one lot of soil.

Human remains representing, at minimum, four individuals were removed from the Bluff Pointe site (Wpt 010) in Cayuga County, NY. The human remains of an individual were acquired by C. Armbruster in 1938, the human remains of an individual were collected by Harold Secor and donated to the RMSC in 1948, and the human remains of two individuals and two associated funerary objects were acquired through an RMSC expedition in 1939. No known individuals were identified. The two associated funerary objects are one flint scraper and one unworked flint chip.

Human remains representing, at minimum, five individuals were removed from the David Meyers site in Cayuga County, NY. In 1935 and 1974, these human remains were donated to the RMSC as part of the Greene Collection. No known individuals were identified. No associated funerary objects are present.

Human remains representing, at minimum, 140 individuals were removed from the Frontenac Island Site (Aub 004 LR) in Cayuga County, NY. W.A. Ritchie removed the human remains of 136 individuals and 227 associated funerary objects during an RMSC expedition in 1939, and the human remains of four individuals collected by David W. Chase were acquired by W. Cornwell and subsequently donated to the RMSC on November 27, 1962. No known individuals were identified. Of the 227 funerary objects listed, 96 objects are present and accounted for in the RMSC collections and 131 are currently missing. The 96 present associated funerary objects are one imperforate, flat bone awl or needle; eight bone awls; one bone awl from the humerus of an eagle (?); one notched bone awl; one perforated bone awl; two scapula awls; one bone splinter awl; two lots of bone awls; one lot of bear claw cores; one bone; eight bone fragments; one lot of bones; one lot of cremated faunal remains and charcoal; one lot of deer metatarsal splints; one lot of deer teeth; one lot of deer tooth fragments and part of a turtle shell; three chert drills; one chert drill with a missing tip; one faunal bag; one faunal bone; one lot of wild turkey wing faunal bones; four bone fishhooks; one bone fishhook with a missing point; five antler flaking tools; two bone flaking tools; one bone flute with perforations; one bone hair ornament; two perforated bone hair ornaments; one perforated bone hair ornament with a missing tip; one harpoon fragment; three bone harpoons; one lot of bone harpoons; one lot of double-pointed bone implements; one ulna deer awl; one perforated needle; one imperforate antler pendant(?); one perforated bear or wolf canine; one perforated canine tooth; one perforated elk canine; one lot of perforated wolf canines; one side-notched projectile point; five stemmed chert projectile points; one lot of stemmed chert projectile points; one lot of archaic type projectile points; two turtle shell rattles; one scapula scraper; one lot of soil; one lot of unworked long bone splinters; one lot of bird bone splinters; one antler spoon handle fragment(?) of a bird effigy; one lot of teeth; one lot of perforated elk canine teeth; one lot of flint tool blanks; one dull pointed bone tool; one trimmed chert flake or point reject; one bone tube or whistle fragment; two bone tubes; one lot of unworked bone splinters; one bone whistle fragment; and two bone whistles. The 131 missing associated funerary objects are one beveled(?) adze; one Plano convex adze; one antler tine; one antler awl; two scapula awl; one splinter bone awl; one lunate limestone banner stone; one lot of marginella shell beads; three beaver incisors; one split and ground beaver incisor; one schist celt; three sandstone choppers; one shale chopper; one antler effigy comb of two birds with touching beaks; one elk antler cup; one bone dagger; one bone dagger with red paint stripes; one restored conch shell dish; one dog burial; one dog mandible; five partial dog skeletons; one double pointed bone artifact; one chert flake knife; one antler flaking tool; one circular bone flute with oval perforations; one lot of bone gorges; one bone gouge; one perforated bone hair ornament(?); two harpoon bones; one paint stone hematite; one lot of carbonized hickory nut(?) fragments; one lot of decomposed lumps of iron pyrites; one lot of decomposed iron pyrites; two bone knives(?); one marine shell fragment; one unworked limestone (toy?) pebble; one lot of marine shell pendants; one lot of perforated bear canines; one perforated oyster shell; one pitted sandstone hammerstone; three limestone plummets; one corner-notched chert projectile point base; one ground slate projectile point; 17 lots of side-notched chert projectile points; one stemmed projectile point; 21 lots of chert stemmed projectile points; two chert projectile point tips; one lot of side-notched, stemmed chert, projectile points; one lot of side-notched, triangular chert projectile points; one lot of stemmed projectile points; one retouched chert tabular piece; one fragmentary scapula; one fragmentary scapula scraper; five scapula scrapers; one damaged scapula scraper; one fragmentary scapula scraper; one serrated, split antler; one lot of chert spalls; one antler spoon with a restored perforated base; two whetstones; three sandstone whetstones; one intaglio decorated bone whistle; one lot of wolf jaw fragments; one lot of wolf jaws with bases ground away; one ground wolf tooth; one worked antler; six worked beaver incisors; one lot of worked beaver incisors; and one worked conch shell.

Human remains representing, at minimum, two individuals were removed from the Levanna Village (Aub 001) in Cayuga County, NY. The human remains of one individual were collected by George S. Brooks in 1935, and they were purchased by the Rochester Museum & Science Center (the successor of the Rochester Museum of Art and Sciences) on September 24, 1961. The human remains of a second individual were collected by Clayton Mau, and they were donated to the RMSC by Edward Mau on October 24, 1966. No known individuals were identified. No associated funerary objects are present.

Human remains representing, at minimum, one individual were removed from the Meyers Station Site in Cayuga County, NY. In 1991, these human remains were acquired as part of the Greene collection. No known individual was identified. No associated funerary objects are present.

Human remains representing, at minimum, 11 individuals were removed from the Rene Menard Bridge Site (Aub 005) in Cayuga County, NY. The human remains of seven individuals were collected by C. Armbruster in 1939. The human remains of one individual were collected by Harry Schoff, and they were purchased by the RMSC, through E.B. Meader & E.K. Meacham, in 1967. The human remains of two individuals were acquired by the RMSC as part of the Greene collection. The human remains of one individual and 15 associated funerary objects were collected in 1938, and they were purchased by the RMSC from H. Bigford in 1947. No known individuals were identified. The 15 associated funerary objects are one lot of splinter awls; one lot of bone splinter awls; one lot of beads; one lot of copper beads and human tooth (incorporated as a bead); one lot of discoidal shell beads; one lot of chert drill fragments; one lot of sandstone pestle; one lot of chert projectile points; one lot of conical bone projectile points; one lot of red pigment; one lot of deer scapula scrapers; one lot of beaver incisors; one lot of dog teeth; one lot of turtle shell fragments; and one lot of worked beaver incisors.

Human remains representing, at minimum, one individual were removed from an unknown geographic location in Cayuga County, NY. These human remains were collected by Henry Schoff, and they were purchased by the RMSC from E.B. Meader & E.K. Meacham in 1967. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 187 individuals of Native American ancestry.

• The 245 objects described in this notice are reasonably believed to have been placed with or near individual human remains at the time of death or later as part of the death rite or ceremony.

• There is a relationship of shared group identity that can be reasonably traced between the human remains and associated funerary objects described in this notice and the Cayuga Nation; Oneida Indian Nation; Oneida Nation; Onondaga Nation; Sac & Fox Nation of Missouri in Kansas and Nebraska; Sac & Fox Nation, Oklahoma; Sac & Fox Tribe of the Mississippi in Iowa; Saint Regis Mohawk Tribe; Seneca Nation of Indians; Seneca-Cayuga Nation; Tonawanda Band of Seneca; Tuscarora Nation; and the Wyandotte Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 29, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: April 19, 2023.
Melanie O'Brien,
Manager, National NAGPRA Program.

[FR Doc. 2023-08886 Filed 4-26-23; 8:45 am]

BILLING CODE 4312-52-P